DEPARTMENT OF COMMERCE

International Trade Administration

North American Free-Trade Agreement (NAFTA), Article 1904 NAFTA Panel Reviews; Decision of the Committee

AGENCY: NAFTA Secretariat, United States Section, International Trade Administration, Department of Commerce.

ACTION: Notice of decision of Extraordinary Challenge Committee.

SUMMARY: On October 7, 2004 the Extraordinary Challenge Committee (ECC) issued its decision in the matter of Pure Magnesium from Canada, Secretariat File No. ECC-2003-1904-01USA.

FOR FURTHER INFORMATION CONTACT: Caratina L. Alston, United States Secretary, NAFTA Secretariat, Suite 2061, 14th and Constitution Avenue, NW., Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter was conducted in accordance with these Rules.

Background Information: On September 24, 2003, the Office of the United States Trade Representative filed a Request for an Extraordinary Challenge Committee to review decisions of March 27, 2002; October 15, 2002; April 28, 2003 and June 24, 2003, with the United States Section of the NAFTA Secretariat pursuant to Article 1904 of the North American Free Trade Agreement. Panel review was requested of the full sunset review of the anti-dumping order made by the International Trade Administration, respecting Pure Alloy Magnesium from Canada. These determinations were published in the Federal Register. The NAFTA Secretariat assigned Secretariat File Number ECC-2003-1904-01USA to this request.

Committee Decision: The Committee concluded that the panel manifestly exceeded its powers by failing to apply the correct standard of review; such action materially affected the Panel's decision, but; that the Panel's action did not threaten the integrity of the binational panel review process.

Accordingly the challenge is dismissed and by virtue of section 3 of NAFTA Annex 1904.13 the challenged panel decision stands affirmed.

Dated: October 8, 2004.
Caratina L. Alston,
United States Secretary, NAFTA Secretariat.

[FR Doc. E4-2706 Filed 10-14-04; 8:45 am]

BILLING CODE 3510-GT-P